GENERAL SERVICES ADMINISTRATION

Federal Travel Regulation (FTR); Maximum Per Diem Rates for the States of Kansas, New Mexico, New York, Rhode Island, and Texas

AGENCY: Office of Governmentwide Policy, General Services Administration (GSA).

ACTION: Notice of Per Diem Bulletin 10-03, revised continental United States (CONUS) per diem rates.

SUMMARY: The General Services Administration (GSA) has reviewed the per diem rates for certain locations in the States of Kansas, New Mexico, New York, Rhode Island and Texas and determined that they are inadequate.

FOR FURTHER INFORMATION CONTACT: For clarification of content, contact Ms. Jill Denning, Office of Governmentwide Policy, Travel Management Policy, at (202) 208-7642. Please cite FTR Per Diem Bulletin 10-03.

SUPPLEMENTARY INFORMATION:

A. Background

After an analysis of the per diem rates established for FY 2010 (see the Federal Register notice at 74 FR 42898, August 25, 2009, and FTR Bulletin 10-01), the per diem rate is being changed in the following locations:

State of Kansas

• Leavenworth County.

State of New Mexico

• Dona Ana County.

State of New York

• Oswego County.

State of Rhode Island

• Bristol County.

State of Texas

• Midland County.

Per diem rates are published on the Internet at www.gsa.gov/perdiem as FTR per diem bulletins. This process ensures timely increases or decreases in per diem rates established by GSA for Federal employees on official travel within CONUS. Notices published periodically in the Federal Register, such as this one, now constitute the only notification of revisions in CONUS per diem rates to agencies.

Dated: March 17, 2010.
Becky Rhodes,
Deputy Associate Administrator, Office of Travel, Transportation and Asset Management.

[FR Doc. 2010-6612 Filed 3-24-10; 8:45 am]

BILLING CODE 6820-14-P